DEPARTMENT OF VETERANS AFFAIRS

[OMB Control No. 2900-0730]

Proposed Information Collection; Comment Request; Deployment Risk and Resilience Inventory (DRRI)

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to prepare future military personnel for the challenges of being deployed overseas and how to better assist them after deployment.

DATES: Written comments and recommendations on the proposed collection of information should be received on or before May 14, 2012.

ADDRESSES: Submit written comments on the collection of information through Federal Docket Management System (FDMS) at www.Regulations.gov; or to Cynthia Harvey-Pryor, Veterans Health Administration (193E1), Department of Veterans Affairs, 810 Vermont Avenue NW., Washington, DC 20420; or email: cynthia.harvey-pryor@va.gov. Please refer to “OMB Control No. 2900-0730” in any correspondence. During the comment period, comments may be viewed online through the FDMS.

FOR FURTHER INFORMATION CONTACT: Cynthia Harvey-Pryor (202) 461-5870 or FAX (202) 273-9381.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Deployment Risk and Resilience Inventory (DRRI), VA Form 10-21087.

OMB Control Number: 2900-0730.

Type of Review: Extension of a currently approved collection.

Abstract: The primary goal of the DRRI project is to provide a suite of scales that will be useful to researchers and clinicians to study factors that increase or reduce risk for Post Traumatic Stress Disorder (PTSD) and other health problems that Operation Enduring Freedom/Operation Iraqi Freedom veterans experienced before, during, and after deployment.

Affected Public: Individuals or households.

Estimated Annual Burden: 1,412.

Estimated Average Burden per Respondent: 43 minutes.

Frequency of Response: On occasion.

Estimated Number of Respondents: 1,979.

Dated: March 8, 2012.
By direction of the Secretary.
Denise McLamb,
Program Analyst, Enterprise Records Service.

[FR Doc. 2012-6095 Filed 3-13-12; 8:45 am]

BILLING CODE 8320-01-P